DEPARTMENT OF ENERGY

Federal Energy Regulatory Commission

[Project No., 14644-000]

Kings River Conservation District; Notice of Preliminary Permit Application Accepted for Filing and Soliciting Comments, Motions To Intervene, and Competing Applications

On October 29, 2014, the Kings River Conservation District (applicant) filed an application for a preliminary permit, pursuant to section 4(f) of the Federal Power Act, proposing to study the feasibility of the Peoples Weir Hydroelectric Project at the Peoples Weir on the Kings River, near the city of Kingsburg in King County, California. The sole purpose of a preliminary permit, if issued, is to grant the permit holder priority to file a license application during the permit term. A preliminary permit does not authorize the permit holder to perform any land-disturbing activities or otherwise enter upon lands or waters owned by others without the owners' express permission.

The applicant seeks to study one or more configurations for installing generating facilities immediately below Peoples Weir that would generate with streamflow that would normally pass over the dam. Based upon preliminary studies, the site has the potential to generate 590 kilowatts with an annual energy output of 1.9 gigawatt-hours. The project would likely connect to PG&E's transmission system located about 1000 feet from the powerhouse site.

Applicant Contact: David Orth, 4886 East Jensen Avenue, Fresno, CA 93725, Telephone (559) 237-5567.

FERC Contact: Jim Fargo; phone: (202) 502-6095.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14644-000.

More information about this project, including a copy of the application, can be viewed or printed on the “eLibrary” link of Commission's Web site at http://www.ferc.gov/docs-filing/elibrary.asp. Enter the docket number (P-14644) in the docket number field to access the document. For assistance, contact FERC Online Support.

Dated: December 9, 2014.
Kimberly D. Bose,
Secretary.

[FR Doc. 2014-29955 Filed 12-22-14; 8:45 am]

BILLING CODE 6717-01-P